DEPARTMENT OF AGRICULTURE

Forest Service

Rogue/Umpqua Resource Advisory Committee (RAC)

AGENCY: Forest Service, USDA Forest Service Action: Action of Meeting.

SUMMARY: The Rogue/Umpqua Resource Advisory Committee (RAC) will meet on Thursday and Friday, September 20 and 21, in Roseburg, Oregon. On September 20, the meeting will begin at 10:30 a.m. and conclude at 4:45 p.m. On September 21, the meeting will begin at 8 a.m. and conclude at 4 p.m. Agenda items on September 20 include (1) Selection of RAC chairperson, (2) approval of 2006 meeting minutes and RAC expenses, (3) 30-minute public forum at 11 a.m., (4) review of past and proposed projects in Klamath County at 11:30 a.m., (5) review of past and proposed projects for Lane County at 1:30 p.m., and (6) update on projects in Jackson and Josephine counties at 3:45 p.m. The agenda for September 21 includes (1) 30-minute public forum at 8:15 a.m., (2) review of past and proposed projects for Douglas County at 8:45 a.m., and (3) review of proposed public projects at 10:45 a.m. Written public comments may be submitted prior to the September meeting by sending them to Designated Federal Official Cliff Dils at the address given below.

FOR FURTHER INFORMATION CONTACT: For more information regarding this meeting, contact Designated Federal Official Cliff Dils; Umpqua National Forest; 2900 NW. Stewart Parkway, Roseburg, Oregon 97470; (541) 957-3203.

Dated: August 15, 2007.
Cheryl E. Caplan,
Acting Forest Supervisor, Umpqua National Forest.

[FR Doc. 07-4113 Filed 8-21-07; 8:45 am]

BILLING CODE 3410-11-M